DEPARTMENT OF THE INTERIOR

Bureau of Land Management

[WO-230-1020-PB-24 1A]

Extension of Approved Information Collection, OMB Control Number 1004-0001

AGENCY: Bureau of Land Management, Interior.

ACTION: Notice and request for comments.

SUMMARY: In accordance with the Paperwork Reduction Act of 1995, the Bureau of Land Management (BLM) is requesting the Office of Management and Budget (OMB) to extend an existing approval to collect information from the general public interested in obtaining free vegetative or mineral material from public lands. BLM uses Form 5510-1, Free Use Application and Permit (Vegetative or Mineral Materials) to collect this information. This information allows BLM to properly manage and accurately track the disposal of these materials.

DATES: You must submit your comments to BLM at the address below on or before May 5, 2006. BLM will not necessarily consider any comments received after the above date.

ADDRESSES: You may mail comments to: Bureau of Land Management, (WO-630), Eastern States Office, 7450 Boston Blvd., Springfield, Virginia 22153.

You may send comments via Internet to: comments_washington@blm.gov. Please include “ATTN:: 1004-0001” and your name and return address in your Internet message.

You may deliver comments to the Bureau of Land Management, Administrative Record, Room 401, 1620 L Street, NW., Washington, DC.

All comments will be available for public review at the L Street address during regular business hours (7:45 a.m. to 4:15 p.m.) Monday through Friday.

FOR FURTHER INFORMATION CONTACT: You may contact Tim Bottomley, on (303) 236-0681 (Commercial or FTS). Persons who use a telecommunication device for the deaf (TDD) may call the Federal Information Relay Service (FIRS) on 1-800-877-8330, 24 hours a day, seven days a week, to contact Mr. Bottomley.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

BLM uses Form 5510-1, Free Use Application and Permit (Vegetative or Mineral Material), under 43 CFR 5510 to collect this information. The PL-167, Surface Resources Act of July 23, 1955, gives the Secretary the discretion to permit the free use of vegetative or mineral materials for use other than commercial or industrial purposes or resale. The Secretary of the Interior may also permit mining claimants the free use of vegetative or mineral materials.

BLM uses the information provided by the applicant(s) to:

(1) Maintain an inventory of vegetative and mineral information; and

(2) Adjudicate your rights to vegetative and mineral resources.

An applicant must file an application for a permit before removing any vegetative or mineral resources from the public lands. If BLM did not collect this information, we could not process applications.

Based upon BLM experience administering the activities described above, we process approximately 300 applications each year. The public reporting information collection burden takes 30 minutes. We estimate 300 responses per year and a total annual burden of 150 hours.

BLM will summarize all responses to this notice and include them in the request for OMB renewal of this form. All comments will become a matter of public record.

Dated: February 28, 2006.
Ted R. Hudson,
Bureau of Land Management, Information Collection Clearance Officer.

[FR Doc. 06-2068 Filed 3-3-06; 8:45 am]

BILLING CODE 4310-84-M